NATIONAL SCIENCE FOUNDATION (NSF)

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, May 14, 2019 from 8:00 a.m. to 3:55 p.m., and Wednesday, May 15, 2019 from 9:00 a.m. to 2:45 p.m. EST.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Tuesday, May 14, 2019

Plenary Board Meeting

Open Session: 8:00-8:30 a.m.

• NSB Chair's Opening Remarks

• NSF Director's Remarks

• Summary of Activities

• Creation of Vision 2030 Task Force

Committee on Awards and Facilities (A&F)

Open Session: 8:30-9:15 a.m.

• Committee Chair's Opening Remarks

• Approval of Prior Minutes

• Calendar year (CY) 2019 Schedule of Planned Action and Information Items

• A&F Retreat Report Out

• National Ecological Observatory Network Update

Committee on Awards and Facilities (A&F)

Closed Session: 9:15-10:30 a.m.

• Committee Chair's Opening Remarks

• Approval of Prior Minutes

• Action Item: Leadership-Class Computing Facility Operations and Maintenance

• Action Item: Green Bank Observatory Record of Decision

• National Ecological Observatory Network Q & A

Committee on External Engagement (EE)

Open Session: 10:45-11:15 a.m.

• Committee Chair's Opening Remarks

• Approval of Prior Minutes

• NSB Alumni Communication Network

• NSB Home District Office Meetings

• New NSB Videos

Plenary Board

Open Session: 11:15-12:00 p.m.

• NSB Chair's Opening Remarks

• Director's Introduction of Dr. Dionne

• Chair's Introduction of Dr. Massey

Plenary Board

Open Session: 1:00-1:45 p.m.

• NSB Chair's Opening Remarks

• Chair's Introduction of Dr. Schaal

• Director's Introduction of Dr. Doeleman

Committee on Strategy (CS)

Open Session: 1:45-3:00 p.m.

• Committee Chair's Opening Remarks

• Approval of Prior Minutes

• Update on Budgets

• Presentation on Big Ideas

• Presentation on the Federal STEM Education Strategic Plan

Committee on National Science and Engineering Policy (SEP)

Open Session: 3:15-3:55 p.m.

• Committee Chair's Opening Remarks

• Approval of Prior SEP Minutes

• Update on Reviews of Thematic Reports 1-3 of SEI 2020

• Update on Distribution Schedule of Thematic Reports 4-8

• Presentation and Discussion on the Thematic Reports Approval Process

• Update on Title and Cover Image for the “Summary Report”

• Update on the Reimagined Indicators Pre-release Communications Plan

Wednesday, May 15, 2019

Committee on Oversight (CO)

Open Session: 9:00-10:15 a.m.

• Committee Chair's Opening Remarks

• Approval of Committee Meeting Minutes

• Merit Review Report Update

• Review and Recommendation for Transmittal of OIG Semiannual Report and Approval of NSF Management Response

• Inspector General's Update

• Chief Financial Officer's Update

Task Force on the Skilled Technical Workforce (STW TF)

Open Session: 10:30-11:30 a.m.

• Task Force Chair's Opening Remarks

• Approval of Prior Meeting Minutes

• NSF Investments in Skilled Technical Workforce Development

• Final Report Update and Discussion

Plenary Board

Open Session: 11:30-11:50 a.m.

• NSB Chair's Opening Remarks

• Director's Introduction of Dr. Braverman

Task Force on Vision 2030 (Vision TF)

Open Session: 12:45-1:45 p.m.

• Task Force Chair's Opening Remarks

• Update on Vision Project

Plenary Board

Closed Session: 1:25-1:45 p.m.

• NSB Chair's Opening Remarks

• NSF Director's Remarks

○ Science and Security

• Approval of Prior Minutes

• Closed Committee Reports

• Vote: Green Bank Observatory Record of Decision

• Vote: Leadership-Class Computing Facility Operations and Maintenance

Plenary Board (Executive)

Closed Session: 1:45-2:15 p.m.

• NSB Chair's Opening Remarks

• Approval of Prior Minutes

• NSF Director's Remarks

○ Executive searches

• Board Member Award Affirmation

• Election of At-large Executive Committee Members

Plenary Board

Open Session: 2:15-2:45 p.m.

• NSB Chair's Opening Remarks

• Approval of Prior Minutes

• NSF Director's Remarks

○ Senior Staff Updates

○ Office of Legislative and Public Affairs Item

• Open Committee Chair Reports

• Votes on Merit Review Report Resolution and Preface

• Votes on Semiannual OIG Report and NSF Management Response

• Vote on Executive Committee Annual Report

• NSB Chair's Closing Remarks

Meeting Adjourns: 2:45 p.m.

MEETINGS THAT ARE OPEN TO THE PUBLIC:

Tuesday, May 14, 2019

8:00-8:30 a.m. Plenary NSB

8:30-9:15 a.m. A&F

10:45-11:15 a.m. EE

11:15 a.m.-12:00 p.m. Plenary

1:00-1:45 p.m. Plenary

1:45-3:00 p.m. CS

3:15-3:55 p.m. SEP

Wednesday, May 15, 2019

9:00-10:15 a.m. CO

10:30-11:30 a.m. STW TF

11:30-11:50 a.m. Plenary

12:45-1:25 p.m. Vision TF

2:15-2:45 p.m. Plenary

MEETINGS THAT ARE CLOSED TO THE PUBLIC:

Tuesday, May 14, 2019

9:15-10:30 a.m. A&F

Wednesday, May 15, 2019

1:25-1:45 p.m. Plenary

1:45-2:15 p.m. Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/190514/ and follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB provides some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2019-09765 Filed 5-8-19; 11:15 am]

BILLING CODE 7555-01-P